DEPARTMENT OF JUSTICE

Drug Enforcement Administration

[Docket No. DEA-392]

Importer of Controlled Substances Application: ABBVIE LTD; Correction

ACTION: Notice; correction.

SUMMARY: The Drug Enforcement Administration (DEA) published a document in the Federal Register of December 1, 2017, concerning a notice of application that inadvertently misstated what the firm plans to do with imported tapentadol.

Correction

In the Federal Register of December 1, 2017, in FR Doc. 2017-25921 (82 FR 230), on page 230, in the second column, the last paragraph, correct the first sentence to read: The company plans to import bulk tapentadol (9780) to manufacture dosage form tapentadol (9780) for distribution to its customers.

Demetra Ashley,
Acting Assistant Administrator.

[FR Doc. 2017-28176 Filed 12-28-17; 8:45 am]

BILLING CODE 4410-09-P